DEPARTMENT OF LABOR

Employment and Training Administration

[TA-W-81,038]

Ford Motor Company Twin Cities Assembly Plant Vehicle Operations Division Including On-Site Leased Workers From AEROTEK, Albers Mechanical, Alliedbarton, Allied Systems Aristeo, Autoport Collins Electric, Guardsmark, Great Western Recycling, Healthsource Solutiions, Kelly Services, Marsden Building Maintenance, Penski Logistics Ppg Industries, Waste Management, VMX, Nascote Industries, Delphi Electronics & Safety, Unicomm, And Pacer International St. Paul, MN; Amended Certification Regarding Eligibility To Apply for Worker Adjustment Assistance

In accordance with Section 223 of the Trade Act of 1974, as amended (“Act”), 19 U.S.C. 2273, the Department of Labor issued a Certification of Eligibility to Apply for Worker Adjustment Assistance on February 9, 2012, applicable to workers of Ford Motor Company, Twin Cities Assembly Plant, Vehicle Operations Division, St. Paul, Minnesota. The workers are engaged in activities related to the production of pickup trucks. The notice was published in the Federal Register on February 28, 2012 (77 FR 12083).

At the request of the Minnesota State agency, the Department reviewed the certification for workers of the subject firm. New information from the company shows that workers leased from Aerotek, Albers Mechanical, Alliedbarton, Allied Systems, Aristeo, Autoport, Collins Electric Guardsmark, Great Western Recycling, Healthsource Solution, Kelly Services, Marsden Building Maintenance, Penski Logistics, PPG Industries, Waste Management, VMX, Nascote Industries, Delphi Electronics & Safety, Unicomm, and Pacer International were employed on-site at the St. Paul, Minnesota location of Ford Motor Company, Twin Cities Assembly Plant, Vehicle Operations Division. The Department has determined that these workers were sufficiently under the control of Ford Motor Company, Twin Cities Assembly Plant, Vehicle Operations Division, St. Paul, Minnesota to be considered leased workers.

Based on these findings, the Department is amending this certification to include workers leased from the above mentioned firms working on-site at the St. Paul, Minnesota location of the subject firm.

The intent of the Department's certification is to include all workers of the subject firm who were adversely affected by a shift in production of pickup trucks to Thailand, Brazil, and South Africa.

The amended notice applicable to TA-W-81,038 is hereby issued as follows:

All workers from Ford Motor Company, Twin Cities Assembly Plant, Vehicle Operations Division, St. Paul, Minnesota, including on-site leased workers from Aerotek, Albers Mechanical, Alliedbarton, Allied Systems, Aristeo, Autoport, Collins Electric, Guardsmark, Great Western Recycling Healthsource Solutions, Kelly Services Marsden Building Maintenance, Penski Logistics, PPG Industries, Waste Management, VMX, Nascote Industries, Delphi Electronics & Safety, Unicomm, and Pacer International, St. Paul, Minnesota, who became totally or partially separated from employment on or after February 13, 2010, through February 9, 2014, and all workers in the group threatened with total or partial separation from employment on date of certification through two years from the date of certification, are eligible to apply for adjustment assistance under Chapter 2 of Title II of the Trade Act of 1074, as amended.

Signed at Washington, DC, this 23rd day of March 2012.
Michael W. Jaffe,
Certifying Officer, Office of Trade Adjustment Assistance.

[FR Doc. 2012-7799 Filed 3-30-12; 8:45 am]

BILLING CODE 4510-FN-P